NATIONAL SCIENCE FOUNDATION

Astronomy and Astrophysics Advisory Committee; Notice of Meeting

In accordance with the Federal Advisory Committee Act (Pub. L. 92-463, as amended), the National Science Foundation (NSF) announces the following meeting:

Name and Committee Code: Astronomy and Astrophysics Advisory Committee (#13883) (Teleconference).

Date and Time: November 6, 2018; 12:00 p.m.-1:00 p.m. EST.

Place: National Science Foundation, 2415 Eisenhower Avenue, Alexandria, VA 22314, Room W9138 (Teleconference).

Type of Meeting: Open.

Attendance information for the meeting will be forthcoming on the website: https://www.nsf.gov/mps/ast/aaac.jsp.

Contact Person: Dr. Christopher Davis, Program Director, Division of Astronomical Sciences, Suite W 9136, National Science Foundation, 2415 Eisenhower Avenue, Alexandria, VA 22314; Telephone: 703-292-4910.

Purpose of Meeting: To provide advice and recommendations to the National Science Foundation (NSF), the National Aeronautics and Space Administration (NASA) and the U.S. Department of Energy (DOE) on issues within the field of astronomy and astrophysics that are of mutual interest and concern to the agencies.

Agenda: The AAAC will receive a preliminary report from a committee set up to consider the roles of the Gemini Observatory, the Southern Astrophysical Research Telescope (SOAR), the Blanco Telescope, and other federally-funded ground-based optical-infrared facilities in the era of Multi-Messenger and Time Domain astronomy, and on the use of these observatories to advance Dark Energy science.

Dated: October 9, 2018.
Crystal Robinson,
Committee Management Officer.

[FR Doc. 2018-22220 Filed 10-11-18; 8:45 am]

BILLING CODE 7555-01-P